DEPARTMENT OF ENERGY

Agency Information Collection Extension

AGENCY: Department of Energy.

ACTION: Submission for Office of Management and Budget (OMB) review; comment request.

SUMMARY: The Department of Energy (DOE) has submitted an information collection request to the OMB for extension under the provisions of the Paperwork Reduction Act of 1995. The information collection requests a three-year extension of its State Energy Program (SEP), OMB Control Number 1910-5126. This information collection request pertains to Department's State Energy Program, which provides grants to States that are intended to promote energy conservation and renewable energy in 55 areas specified in the collection instrument (e.g., agriculture, geothermal, biomass, traffic signals, home energy ratings, building codes). Requested information includes matters such as which one of the following six broad categories that the grant request pertains to (buildings, electric power and renewable energy, energy education, industry, policy planning and energy security, and transportation); the State; the program year; the area or areas of the 55 referred to above; estimated annual energy savings; a description of the requested grant's goals and objectives program year milestones; and program year funds by source.

DATES: Comments regarding this collection must be received on or before July 7, 2008. If you anticipate that you will be submitting comments, but find it difficult to do so within the period of time allowed by this notice, please advise the OMB Desk Officer of your intention to make a submission as soon as possible. The Desk Officer may be telephoned at 202-395-4650.

ADDRESSES: Written comments should be sent to the following officials:

DOE Desk Officer, Office of Information and Regulatory Affairs, Office of Management and Budget, New Executive Office Building, Room 10102, 735 17th Street, NW., Washington, DC 20503

and

Elnora Long, U.S. Department of Energy, 1000 Independence Ave SW., Washington, DC 20585-1290, Fax #: (202) 586-1233, elnora.long@ee.doe.gov.

FOR FURTHER INFORMATION CONTACT: Elnora Long, U.S. Department of Energy, 1000 Independence Ave SW. , Washington, DC 20585-1290, Fax #: (202) 586-1233, elnora.long@ee.doe.gov.

SUPPLEMENTARY INFORMATION: This information collection request contains: (1) OMB No. 1910-5126; (2) Information Collection Request Title: State Energy; Program (3) Purpose: Promote the conservation of energy, reduce the rate of growth of energy demand, and reduce dependence on imported oil; (4) Estimated Number of Respondents: 56 (Fifty Six) States and Territories; (5) Estimated Total Burden Hours: 162; (6) Number of Collections: The information collection request contains one (1) information and/or recordkeeping requirement.

Statutory Authority: 10 CFR 420. State Energy Program.

Issued in Washington, DC, on June 2, 2008.
Alexander A. Karsner,
Assistant Secretary, Energy Efficiency and Renewable Energy.

[FR Doc. E8-12747 Filed 6-5-08; 8:45 am]

BILLING CODE 6450-01-P